DEPARTMENT OF COMMERCE

National Oceanic and Atmospheric Administration

RIN 0648-XF26

Atlantic Bluefin Tuna Scientific Workshop

AGENCY: National Marine Fisheries Service (NMFS), National Oceanic and Atmospheric Administration (NOAA), Commerce.

ACTION: Notice.

SUMMARY: NMFS announces the date, time, and location for an informal Atlantic bluefin tuna (BFT) scientific workshop (Workshop).

DATES: The Workshop will start at 10 a.m. on Tuesday, February 5, 2008, and will conclude at 12:30 p.m., Wednesday, February 6, 2008.

ADDRESSES: The Workshop will be held at the NMFS Southeast Regional Office, 13th Avenue, South, St. Petersburg, FL 33701.

FOR FURTHER INFORMATION CONTACT: Victor Restrepo at (305) 361-4000.

SUPPLEMENTARY INFORMATION: Atlantic tunas are managed under the dual authority of the Magnuson-Stevens Act and the Atlantic Tunas Convention Act (ATCA), which authorizes the Secretary of Commerce (Secretary) to promulgate regulations, as may be necessary and appropriate, to implement recommendations of the International Commission for the Conservation of Atlantic Tunas (ICCAT).

ICCAT's Standing Committee on Research and Statistics (SCRS) will hold an Atlantic bluefin tuna stock assessment session in Madrid, Spain in June 2008. In advance of the SCRS session, NMFS will hold an informal BFT scientific workshop to review, to discuss relevant BFT research, preparations for the stock assessments, and the timeline for submission of scientific papers to SCRS by U.S. researchers.

Dated: January 24, 2008.
Alan D. Risenhoover
Director, Office of Sustainable Fisheries, National Marine Fisheries Service.

[FR Doc. E8-1561 Filed 1-28-08; 8:45 am]

BILLING CODE 3510-22-S